NUCLEAR REGULATORY COMMISSION

[Docket No. NRC-2014-0025]

Agency Information Collection Activities: Proposed Collection; Comment Request

AGENCY: Nuclear Regulatory Commission.

ACTION: Notice of pending NRC action to submit an information collection request to the Office of Management and Budget (OMB) and solicitation of public comment.

SUMMARY: The U.S. Nuclear Regulatory Commission (NRC) invites public comment about our intention to request the OMB's approval for renewal of an existing information collection that is summarized below. We are required to publish this notice in the Federal Register under the provisions of the Paperwork Reduction Act of 1995 (44 U.S.C. Chapter 35).

Information pertaining to the requirement to be submitted:

1. The title of the information collection: DOE/NRC Form 742, “Material Balance Report,” and DOE/NRC Form 742C, “Physical Inventory Listing,” and NUREG/BR-0007, “Instructions for the Preparation and Distribution of Material Status Reports.”

2. Current OMB approval number: DOE/NRC Form 742: 3150-0004. DOE/NRC Form 742C: 3150-0058.

3. How often the collection is required: DOE/NRC Form 742 is submitted once a year within thirty days after the start of a physical inventory as part of the material accounting and control procedures. DOE/NRC Form 742C is submitted once a year when licensees complete their physical inventory as part of the material accounting and control procedures.

4. Who is required or asked to report: DOE/NRC Form 742, Persons licensed to possess specified quantities of special nuclear material or source material. Any licensee, including nuclear reactor licensees, possessing, or who had possessed in the previous reporting period, at any one time and location, special nuclear material in a quantity totaling one gram or more shall complete DOE/NRC Form 742. In addition, each licensee, Federal or State, who is authorized to possess, at any one time or location, 1 kilogram of foreign obligated source material, is required to file with the NRC an annual statement of source material inventory which is foreign-obligated. DOE/NRC Form 742C, Persons licensed to possess specified quantities of special nuclear material or source material. Any licensee, including nuclear reactor licensees, possessing, or who had possessed in the previous reporting period, at any one time and location, special nuclear material in a quantity totaling one gram or more shall complete DOE/NRC Form 742C.

5. The number of annual respondents: DOE/NRC Form 742: 360 respondents. DOE/NRC Form 742C: 360 respondents.

6. The number of hours needed annually to complete the requirement or request: DOE/NRC Form 742: 1,260 hours. DOE/NRC Form 742C: 1,440 hours.

7. Abstract: The NRC is required to collect nuclear material transaction information for domestic safeguards use and make it available to the International Atomic Energy Agency (IAEA). Licensees use DOE/NRC Form 742 to report the material balance within 30 days after the start of a physical inventory of nuclear materials actually present at licensee's facilities, including the quantities of foreign obligated source material. Licensees use DOE/NRC Form 742C to report the material status based on a physical inventory of nuclear materials actually present at licensee's facilities. These forms enable the NRC to collect, retrieve, analyze, and submit the data to IAEA to fulfill its reporting responsibilities.

This information collection request will also categorize these forms as common forms. Once OMB approves the use of these common forms, all Federal agencies using the form may request use of this common form without additional 60- or 30-day notice and comment requirements. At that point, each agency will account for its number of respondents and the burden associated with the agency's use.

Submit, by April 28, 2014, comments that address the following questions:

1. Is the proposed collection of information necessary for the NRC to properly perform its functions? Does the information have practical utility?

2. Is the burden estimate accurate?

3. Is there a way to enhance the quality, utility, and clarity of the information to be collected?

4. How can the burden of the information collection be minimized, including the use of automated collection techniques or other forms of information technology?

The public may examine and have copied for a fee, publicly-available documents, including the draft supporting statement, at the NRC's Public Document Room, Room O-1F21, One White Flint North, 11555 Rockville Pike, Rockville, Maryland 20852. The OMB clearance requests are available at the NRC's Web site: http://www.nrc.gov/public-involve/doc-comment/omb/. The document will be available on the NRC's home page site for 60 days after the signature date of this notice.

Comments submitted in writing or in electronic form will be made available for public inspection. Because your comments will not be edited to remove any identifying or contact information, the NRC cautions you against including any information in your submission that you do not want to be publicly disclosed. Comments submitted should reference Docket No. NRC-2014-0025. You may submit your comments by any of the following methods: Electronic comments go to http://www.regulations.gov and search for Docket No. NRC-2014-0025. Mail comments to the Acting NRC Clearance Officer, Kristen Benney (T-5 F53), U.S. Nuclear Regulatory Commission, Washington, DC 20555-0001.

Questions about the information collection requirements may be directed to the Acting NRC Clearance Officer, Kristen Benney (T-5 F53), U.S. Nuclear Regulatory Commission, Washington, DC 20555-0001, by telephone at 301-415-6355, or by email to INFOCOLLECTS.Resource@NRC.GOV.

Dated at Rockville, Maryland, this 19th day of February, 2014.
For the Nuclear Regulatory Commission.
Kristen Benney,
Acting NRC Clearance Officer, Office of Information Services.

[FR Doc. 2014-03989 Filed 2-24-14; 8:45 am]

BILLING CODE 7590-01-P